DEPARTMENT OF AGRICULTURE

Forest Service

Idaho Roadless Area Boundary Modification; Caribou-Targhee National Forest

AGENCY: Forest Service, USDA.

ACTION: Notice of proposed Idaho Roadless Area boundary modification; request for comment.

SUMMARY: The Forest Service, U.S. Department of Agriculture (USDA), proposes to modify the West Mink Idaho Roadless Area boundary on the Caribou-Targhee National Forest to relocate and expand the Gibson Jack Trailhead. The Chief of the Forest Service proposes to modify the boundary after a 45-day public notice and opportunity to comment.

DATES: Comments must be received in writing by August 24, 2015.

ADDRESSES: Written comments concerning this notice should be addressed to Doug Herzog, Caribou-Targhee National Forest, 1405 Hollipark Drive, Idaho Falls, ID 83401. Comments may also be sent via email to comments-intermtn-caribou-targhee-westside@fs.fed.us, or via facsimile to (208) 557-5826. All comments, including names and addresses when provided, are placed in the record and are available for public inspection and copying. The public may inspect comments received at 1405 Hollipark Drive, Idaho Falls, ID 83401. Visitors are encouraged to call ahead to (208) 524-7511 to facilitate entry to the building.

FOR FURTHER INFORMATION CONTACT: Doug Herzog, Forest Planner, at (208) 557-5826. Additional information concerning this boundary modification and trailhead relocation, including the proposed modified map, may be obtained on the Internet at http://www.fs.usda.gov/detail/roadless/idahoroadlessrule/?cid=stelprdb5382399 and at http://data.ecosystem-management.org/nepaweb/nepa_project_exp.php?project=44396. Individuals who use telecommunication devices for the deaf (TDD) may call the Federal Information Relay Service (FIRS) at 1-800-877-8339 between 8:00 a.m. and 8:00 p.m., Eastern Standard Time, Monday through Friday.

SUPPLEMENTARY INFORMATION:

Background

The Idaho Roadless Rule permits the Chief of the Forest Service to modify Idaho Roadless Area boundaries based on changed circumstances or public need after providing public notice and a 45-day public comment period. Pursuant to 36 CFR 294.27(b), the Forest Service proposes to modify the West Mink Roadless Area boundary, located in the Caribou-Targhee National Forest, to allow for the relocation and expansion of the Gibson Jack trailhead.

The existing Gibson Jack trailhead outside of Pocatello, Idaho does not provide adequate parking to accommodate the trail's high level of use. Vehicles must park along the trailhead's access road on adjacent private lands. Expansion of the trailhead in its existing location is not feasible because of the presence of steep and erodible slopes. The West Mink Roadless Area surrounds the trailhead on three sides.

A flat bench approximately 700 feet west of the existing trailhead and inside the roadless area would provide adequate space to accommodate trailhead parking and for vehicles pulling trailers. Moving the trailhead to this location requires removing 11.4 acres from the roadless area and reconstructing approximately 700 feet of a closed Forest Service road that currently serves as a non-motorized trail.

The Forest Service also proposes to eliminate an 18.8-acre area (or “cherry stem”) that has been carved out of the same roadless area. This 18.8-acre area follows a closed Forest Service road which has since been converted to a motorized trail. The Forest Service will add these 18.8 acres to the Roadless Area and remove the previously mentioned 11.4 acres to accommodate the new trailhead, resulting in a net increase of 7.4 acres to the West Mink Roadless Area. The boundary modification would improve the area's manageability for the Caribou-Targhee National Forest. The trailhead relocation would provide improved access and safety for trail users and meet current and projected recreation demand. A map of the proposed modifications is available at: http://www.fs.usda.gov/detail/roadless/idahoroadlessrule/?cid=stelprdb5382399.

The Forest Service prepared an environmental assessment to analyze the impacts of the trailhead relocation and roadless area boundary modifications. The Chief of the Forest Service is the responsible official for the boundary modification under the Idaho Roadless Rule. The Forest Supervisor, Caribou-Targhee National Forest, is the responsible official for the trailhead relocation project. The Forest Service will consider public comments on the proposed boundary modifications in coordination with the proposed trailhead relocation. The environmental assessment, finding of no significant impact, and draft decision notice for the trailhead relocation are available at the Caribou-Targhee National Forest Supervisor's Office, 1405 Hollipark Drive, Idaho Falls, ID 83401 or on the Internet at: www.fs.usda.gov/projects/ctnf/landmanagement/projects. The trailhead relocation project is subject to the objection process at 36 CFR part 218 and 219. Information on filing an objection on the trailhead relocation project is available at the Web site above.

Dated: June 30, 2015.
Thomas L. Tidwell
Chief, Forest Service.

[FR Doc. 2015-16657 Filed 7-7-15; 8:45 am]

BILLING CODE 3411-15-P